DEPARTMENT OF COMMERCE

International Trade Administration

[Application No. 84-24A12]

Export Trade Certificate of Review

ACTION: Notice of Application To Amend the Export Trade Certificate of Review Issued to Northwest Fruit Exporters, Application No. 84-25A12.

SUMMARY: The Office of Trade and Economic Analysis (“OTEA”) of the International Trade Administration, Department of Commerce, has received an application to amend an Export Trade Certificate of Review (“Certificate”). This notice summarizes the proposed amendment and requests comments relevant to whether the amended Certificate should be issued.

FOR FURTHER INFORMATION CONTACT: Joseph Flynn, Director, Office of Competition and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 7025X, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 84-24A12.”

The Northwest Fruit Exporters' (“NWF”) original Certificate was issued on June 11, 1984 (49 FR 24581), and last amended on September 11, 2013 (78 FR 58286). A summary of the current application for an amendment follows.

Summary of the Application

Applicant: Northwest Fruit Exporters, 105 South 18th Street, Suite 227, Yakima, WA 98901.

Contact: Fred Scarlett, Manager, (509) 576-8004.

Application No.: 84-25A12.

Date Deemed Submitted: May 27, 2014.

Proposed Amendment: NWF seeks to amend its Certificate to:

1. Add the following company as a new Member of the Certificate within the meaning of section 325.2(l) of the Regulations (15 CFR 325.2(l)): Garrett Ranches Packing (Wilder, ID); and

2. Remove the following companies as Members of NWF's Certificate: Eakin Fruit Co. (Union Gap, WA); and Wenoka Sales LLC (Wenatchee, WA); and

3. Change the name of the following member: Underwood Fruit and Warehouse (White Salmon, WA) is now The Dalles Fruit Company, LLC (Dallesport, WA).

NWFE's proposed amendment of its Export Trade Certificate of Review would result in the following membership list:

Allan Bros., Naches, WA

AltaFresh L.L.C. dba Chelan Fresh Marketing, Chelan, WA

Apple King, L.L.C., Yakima, WA

Auvil Fruit Co., Inc., Orondo, WA

Baker Produce, Inc., Kennewick, WA

Blue Bird, Inc., Peshastin, WA

Blue Mountain Growers, Inc., Milton-Freewater, OR

Blue Star Growers, Inc., Cashmere, WA

Borton & Sons, Inc., Yakima, WA

Brewster Heights Packing & Orchards, LP, Brewster, WA

Broetje Orchards LLC, Prescott, WA

C& M Fruit Packers, Wenatchee, WA

C.M. Holtzinger Fruit Co., Inc., Yakima, WA

Chelan Fruit Cooperative, Chelan, WA

Chiawana, Inc. dba Columbia Reach Pack, Yakima, WA

Columbia Fruit Packers, Inc., Wenatchee, WA

Columbia Marketing International Corp., Wenatchee, WA

Columbia Valley Fruit, L.L.C., Yakima, WA

Congdon Packing Co. L.L.C., Yakima, WA

Conrad & Adams Fruit L.L.C., Grandview, WA

Cowiche Growers, Inc., Cowiche, WA

CPC International Apple Company, Tieton, WA

Crane & Crane, Inc., Brewster, WA

Custom Apple Packers, Inc., Brewster, Quincy, and Wenatchee, WA

Diamond Fruit Growers, Odell, OR

Domex Marketing, Yakima, WA

Douglas Fruit Company, Inc., Pasco, WA

Dovex Export Company, Wenatchee, WA

E. Brown & Sons, Inc., Milton-Freewater, OR

Evans Fruit Co., Inc., Yakima, WA

E.W. Brandt & Sons, Inc., Parker, WA

Frosty Packing Co., LLC, Yakima, WA

G&G Orchards, Inc., Yakima, WA

Garrett Ranches Packing, Wilder, ID

Gilbert Orchards, Inc., Yakima, WA

Gold Digger Apples, Inc., Oroville, WA

Hansen Fruit & Cold Storage Co., Inc., Yakima, WA

Henggeler Packing Co., Inc., Fruitland, ID

Highland Fruit Growers, Inc., Yakima, WA

HoneyBear Growers, Inc., (Brewster, WA)

Honey Bear Tree Fruit Co., LLC, Wenatchee, WA

Hood River Cherry Company, Hood River, OR

Ice Lakes LLC, E. Wenatchee, WA

JackAss Mt. Ranch, Pasco, WA

Jenks Bros Cold Storage Packing (Royal City, WA)

Kershaw Fruit & Cold Storage, Co., Yakima, WA

L&M Companies, Selah, WA

Larson Fruit Co., Selah, WA

Manson Growers Cooperative, Manson, WA

Matson Fruit Company, Selah, WA

McDougall & Sons, Inc., Wenatchee, WA

Monson Fruit Co.—Apple operations only, Selah, WA

Morgan's of Washington dba Double Diamond Fruit, Quincy, WA

Northern Fruit Company, Inc., Wenatchee, WA

Obert Cold Storage, Zillah, WA

Olympic Fruit Co., Moxee, WA

Oneonta Trading Corp., Wenatchee, WA

Orchard View Farms, Inc., The Dalles, OR

Pacific Coast Cherry Packers, LLC, Yakima, WA

Phillippi Fruit Company, Inc., Wenatchee, WA

Polehn Farm's Inc., The Dalles, OR

Price Cold Storage & Packing Co., Inc., Yakima, WA

Pride Packing Company, Wapato, WA

Quincy Fresh Fruit Co., Quincy, WA

Rainier Fruit Company, Selah, WA

Roche Fruit, Ltd., Yakima, WA

Sage Fruit Company, L.L.C., Yakima, WA

Smith & Nelson, Inc., Tonasket, WA

Stadelman Fruit, L.L.C., Milton-Freewater, OR, and Zillah, WA

Stemilt Growers, Inc., Wenatchee, WA

Strand Apples, Inc., Cowiche, WA

Symms Fruit Ranch, Inc., Caldwell, ID

The Apple House, Inc., Brewster, WA

The Dalles Fruit Company, LLC, Dallesport, WA

Valicoff Fruit Co., Inc., Wapato, WA

Valley Fruit III L.L.C., Wapato, WA

Washington Cherry Growers, Peshastin, WA

Washington Fruit & Produce Co., Yakima, WA

Western Sweet Cherry Group, LLC, Yakima, WA

Whitby Farms, Inc. dba: Farm Boy Fruit Snacks LLC, Mesa, WA

Yakima Fresh, Yakima, WA

Yakima Fruit & Cold Storage Co., Yakima, WA

Zirkle Fruit Company, Selah, WA

Dated: June 3, 2014.
Joseph Flynn,
Director, Office of Trade and Economic Analysis, International Trade Administration, (202) 482-5131, etca@trade.gov.

[FR Doc. 2014-13612 Filed 6-10-14; 8:45 am]

BILLING CODE 3510-DR-P